DEPARTMENT OF THE TREASURY

Agency Information Collection Activities; Submission for OMB Review; Comment Request; U.S. Business Income Tax Return

AGENCY: Departmental Offices, Department of the Treasury.

ACTION: Notice of information collection; request for comment.

SUMMARY: The Internal Revenue Service, as part of its continuing effort to reduce paperwork and respondent burden, invites the general public and other Federal agencies to take this opportunity to comment on proposed and/or continuing information collections, as required by the Paperwork Reduction Act of 1995 (PRA). The IRS is soliciting comments on forms used by business entity taxpayers.

DATES: Comments should be received on or before January 25, 2024 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Melody Braswell by emailing PRA@treasury.gov, calling (202) 622-1035, or viewing the entire information collection request at www.reginfo.gov.

SUPPLEMENTARY INFORMATION:

Internal Revenue Service (IRS)

Title: U.S. Business Income Tax Return.

OMB Number: 1545-0123.

Form Numbers: Forms 1065, 1066, 1120, 1120-C, 1120-F, 1120-H, 1120-ND, 1120-S, 1120-SF, 1120-FSC, 1120-L, 1120-PC, 1120-REIT, 1120-RIC, 1120-POL and all attachments to these forms.

Abstract: These forms are used by businesses to report their income tax liability.

Current Actions: There have been changes in regulatory guidance related to various forms approved under this approval package during the past year. There have been additions and removals of forms included in this approval package. It is anticipated that these changes will have an impact on the overall burden and cost estimates requested for this approval package. This approval package is being submitted for renewal purposes.

Type of Review: Revision of currently approved collections.

Affected Public: Corporations, Partnerships and Pass-Through Entities.

Estimated Number of Respondents: 13,300,000.

Estimated Time (Hours): 920,000,000.

Estimated Time per Respondent (Hours): 35.

Total Monetized Time: $54,743,000,000.

Total Estimated Out-of-Pocket Costs: $66,717,000,000.

Total Monetized Burden: $121,460,000,000.

Note: Total Monetized Burden = Total Out-of-Pocket Costs + Total Annual Monetized Time.

Note: Amounts below are estimates for Fiscal Year (FY) 2024. Reported time and cost burdens are national averages and do not necessarily reflect a “typical case.” Most taxpayers experience lower than average burden, with taxpayer burden varying considerably by taxpayer type. Detail may not add due to rounding.

Fiscal Year (FY) 2024 Burden Total Estimates for Form 1120 and 1065 Series and Associated Forms, Schedules, and Regulations
FY2024
| FY23 | Program change due to adjustment | Program change due to new legislation | Program change due to agency | FY24
Number of Taxpayers | 12,500,000 | 800,000 | 0 | 0 | 13,300,000
Burden in Hours | 952,000,000 | (32,000,000) | 1,000,000 | 0 | 920,000,000
Burden in Monetized Hours | 52,736,000,000 | 1,950,000,000 | 57,000,000 | 0 | 54,743,000,000
Out-of-Pocket Costs | $59,487,000,000 | $7,165,000,000 | $65,000,000 | 0 | $66,717,000,000
Total Monetized Burden* | $112,223,000,000 | $9,115,000,000 | $122,000,000 | 0 | $121,460,000,000
Source: IRS:RAAS:KDA (12-1-23)
* Total monetized burden = Monetized hours + Out-of-pocket costs Note: Reported time and cost burdens are national averages and do not necessarily reflect a “typical” case. Most taxpayers experience lower than average burden, with taxpayer burden varying considerably by taxpayer type. Detail may not add due to rounding.

Table 1—Taxpayer Burden for Entities Taxed As Partnerships
Primary form filed or type of taxpayer | Total number of returns (in millions) | Average time (hrs.) | Average out-of-pocket cost | Average monetized burden
All Partnerships | 5.3 | 60 | $5,000 | $8,700
Small | 4.9 | 50 | 3,200 | 5,200
Large * | 0.4 | 200 | 27,800 | 50,800
Forms 1065, 1066, and all attachments

Table 2—Taxpayer Burden for Entities Taxed As Taxable Corporations
Primary form filed or type of taxpayer | Total number of returns (in millions) | Average time (hrs.) | Average out-of-pocket cost | Average monetized burden
All Taxable Corporations | 2.1 | 105 | $6,700 | $14,900
Small | 2.0 | 55 | 3,600 | 6,200
Large * | 0.1 | 830 | 53,800 | 149,000
Forms 1120, 1120-C, 1120-F, 1120-H, 1120-ND, 1120-SF, 1120-FSC, 1120-L, 1120-PC, 1120-POL and all attachments

Table 3—Taxpayer Burden for Entities Taxed As Pass-Through Corporations
Primary form filed or type of taxpayer | Total number of returns (in millions) | Average time (hrs.) | Average out-of-pocket cost | Average monetized burden
All Pass-through Corporations | 5.8 | 65 | $4,400 | $7,500
Small | 5.7 | 60 | 3,800 | 6,400
Large * | 0.1 | 295 | 37,700 | 71,800
Forms 1120-REIT, 1120-RIC, 1120-S and all attachments
Source: IRS: RAAS:KDA:TBL (12-1-23)
* A large business is defined as one having end-of-year assets greater than $10 million. Total filers counts may not equal the burden total estimates table due to rounding.

FY2024
Total positive income | Average time (hrs.) | Average out-of-pocket costs | Average monetized burden
Table 1A—Taxpayer Burden for Taxable Corporations on Form 1120
1. < 100k | 42 | 1,330 | 1,987
2. 100k to 1mil | 63 | 4,323 | 6,916
3. 1mil to 10mil | 113 | 12,359 | 24,573
4. 10mil to 100mil | 546 | 43,055 | 105,788
5. > 100mil | 4,398 | 220,425 | 725,848
Table 2A—Taxpayer Burden for Pass-through Corporations on Form 1120S
1. < 100k | 52 | 1,564 | 2,338
2. 100k to 1mil | 59 | 3,814 | 6,015
3. 1mil to 10mil | 79 | 9,595 | 17,797
4. 10mil to 100mil | 287 | 36,698 | 69,606
5. > 100mil | 1,200 | 148,905 | 286,533
Table 3A—Taxpayer Burden for Partnerships on Form 1065
1. < 100k | 45 | 1,627 | 2,530
2. 100k to 1mil | 56 | 4,601 | 7,501
3. 1mil to 10mil | 93 | 12,960 | 23,196
4. 10mil to 100mil | 327 | 46,258 | 83,805
5. > 100mil | 1,447 | 190,307 | 356,260
Source: IRS: RAAS: KDA:TBL (12-1-23).
Detail may not add to total due to rounding.

Authority: 44 U.S.C. 3501 et seq.

Melody Braswell,
Treasury PRA Clearance Officer.

[FR Doc. 2023-28446 Filed 12-22-23; 8:45 am]

BILLING CODE 4830-01-P